POSTAL SERVICE

International Product Change—GEPS 9 Contracts

AGENCY: Postal Service™.

ACTION: Notice.

SUMMARY: The Postal Service gives notice of filing a request with the Postal Regulatory Commission to add Global Expedited Package Services 9 to the Competitive Products List.

DATES: Date of notice: October 20, 2017.

FOR FURTHER INFORMATION CONTACT: Christopher C. Meyerson, (202) 268-7820.

SUPPLEMENTARY INFORMATION: The United States Postal Service® hereby gives notice that, pursuant to 39 U.S.C. 3642, on October 13, 2017, it filed with the Postal Regulatory Commission a Request of The United States Postal Service to add Global Expedited Package Services 9 to the Competitive Products List. Documents are available at www.prc.gov, Docket Nos. MC2018-6 and CP2018-11.

Stanley F. Mires,
Attorney, Federal Compliance.

[FR Doc. 2017-22786 Filed 10-19-17; 8:45 am]

BILLING CODE 7710-12-P